DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 27, 2020.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on October 29, 2020.
Donald P. Burger,
Chief, General Approvals and Permits Branch.

Special Permits Data
Application No. | Applicant | Regulation(s) affected | Nature of the Special Permits thereof
7573-M | Department of Defense (Military Surface Deployment & Distribution Command) | 172.1, 175.1 | To modify the special permit to update references to the new AFMAN manual. (mode 4)
9232-M | Department of Defense US Army (Military Surface Deployment & Distribution Command) | Parts 172 and 175 | To modify the special permit to update references to the new AFMAN manual. (modes 4, 5)
14313-M | Airgas USA LLC | 172.203(a), 172.301(c), 173.302a(b), 180.205 | To modify the special permit to authorize an additional UE test system to re-qualify certain DOT and permitted cylinders. (modes 1, 2, 3, 4, 5)
16146-M | Department of Defense (Military Surface Deployment & Distribution Command) | 171.22(e), 172.101(j) | To modify the permit to reference update references to the 24 series of the Air Force regulations. (mode 4)
20851-M | Call2Recycle, Inc. | 172.200, 172.600, 172.700(a) | To modify the special permit to authorize the transportation of end-of-life lithium batteries up to 1,200 Wh to be shipped in PG II fiberboard boxes. (mode 1)
20904-M | Piston Automotive, LLC | 172.101(j), 173.185(b)(5) | To modify the special permit to authorize the use of alternative packaging which complies with § 173.185(b)(5) and Packing Instruction 965 Section 1A.2. (mode 4)

[FR Doc. 2020-24989 Filed 11-10-20; 8:45 am]

BILLING CODE 4909-60-P